DEPARTMENT OF EDUCATION

[Docket No.: ED-2018-ICCD-0110]

Agency Information Collection Activities; Submission to the Office of Management and Budget for Review and Approval; Comment Request; Defraying Costs of Enrolling Displaced Students (DCEDS) Program and Emergency Assistance to Institutions of Higher Education (EAI) Program Applications

AGENCY: Office of Postsecondary Education (OPE), Department of Education (ED).

ACTION: Notice.

SUMMARY: In accordance with the Paperwork Reduction Act of 1995, ED is proposing an extension of an existing information collection.

DATES: Interested persons are invited to submit comments on or before November 23, 2018.

ADDRESSES: To access and review all the documents related to the information collection listed in this notice, please use http://www.regulations.gov by searching the Docket ID number ED-2018-ICCD-0110. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Beatriz Ceja, 202-453-6239.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Defraying Costs of Enrolling Displaced Students (DCEDS) Program and Emergency Assistance to Institutions of Higher Education (EAI) Program Applications.

OMB Control Number: 1840-0839.

Type of Review: An extension of an existing information collection.

Respondents/Affected Public: Private Sector.

Total Estimated Number of Annual Responses: 550.

Total Estimated Number of Annual Burden Hours: 16,000.

Abstract: The Bipartisan Budget Act of 2018, signed into law on February 9, 2018, included significant new funding to support disaster relief. The U.S. Department of Education (Department) will award up to $2.7 billion to assist K-12 schools and school districts and institutions of higher education (IHEs) in meeting the educational needs of students affected by Hurricanes Harvey, Irma and Maria and the 2017 California wildfires. This disaster assistance will help schools, school districts and IHEs return to their full capabilities as quickly and effectively as possible. There are two higher education funding opportunities that require clearance under the Paperwork Reduction Act. Congress appropriated $100 million for the Emergency Assistance to Institutions of Higher Education program, to provide emergency assistance to IHEs and their students in areas directly affected by the covered disasters or emergencies. Congress appropriated $75 million for the Defraying Costs of Enrolling Displaced Students in Higher Education program, to provide payments to IHEs to help defray the unexpected expenses associated with enrolling displaced students from IHEs directly affected by a covered disaster or emergency. The application packages contained in this request will be used to collect information needed to determine eligibility for funding under these two programs.

Dated: October 19, 2018.
Kate Mullan,
Acting Director, Information Collection Clearance Division, Office of the Chief Privacy Officer, Office of Management.

[FR Doc. 2018-23224 Filed 10-23-18; 8:45 am]

BILLING CODE 4000-01-P